DEPARTMENT OF ENERGY

Federal Energy Regulatory Commission

[Docket No. EL07-50-000]

Californians for Renewable Energy, Inc. (CARE) Complaints v. California Public Utilities Commission, Southern California Edison Company, and Blythe Energy, LLC, Respondents; Notice of Complaints

March 27, 2007.

Take notice that on March 26, 2007, Californians for Renewable Energy, Inc. (CARE) submitted a complaint against the California Public Utilities Commission for its action on March 15, 2007, authorizing hearings concerning Southern California Edison Company's (SCE) application to enter into a power purchase agreement with Blythe Energy, LLC (Blythe), in violation of the Federal Power Act pursuant to section 205 of the FPA. CARE alleges that the prices, terms, and conditions of such contract are unjust and unreasonable. CARE further alleges SCE and Blythe failed to file their rates and the rates approved by the California Public Utilities Commission do not serve the “public interest” under the FPA and are in fact unduly preferential and discriminatory against their party customers, and impose an excessive burden on these customers.

CARE states that copies of this filing were served upon Respondents and other interested parties.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on April 16, 2007.

Philis J. Posey,
Acting Secretary.

[FR Doc. E7-5991 Filed 3-30-07; 8:45 am]

BILLING CODE 6717-01-P